FEDERAL COMMUNICATIONS COMMISSION

47 CFR Part 73

[DA 06-1367]

Radio Broadcasting Services; East Liverpool, OH and Moon Township, PA

AGENCY: Federal Communications Commission.

ACTION: Final rule; denial of petition for reconsideration.

SUMMARY: The Audio Division has denied the petition for reconsideration of Keymarket Licenses, LLC (“Keymarket”), seeking reconsideration of the Audio Division's return of Keymarket's petition for rulemaking to reallot Channel 282B from East Liverpool, Ohio, to Moon Township, Pennsylvania. Keymarket filed a petition for rule making proposing change of community for Station WOGF (FM) from East Liverpool, Ohio, to Moon Township, Pennsylvania. Keymarket also proposed to change the transmitter site of Station WOGF (FM). The proposal was returned as unacceptable, because it would exacerbate an existing short-spacing. In this Memorandum Opinion and Order, the Audio Division denied Keymarket's petition for reconsideration of the return of Keymarket's petition for rulemaking.

FOR FURTHER INFORMATION CONTACT: Deborah Dupont, Media Bureau, (202) 418-2180.

SUPPLEMENTARY INFORMATION: This is a synopsis of the Commission's Memorandum Opinion and Order, adopted June 28, 2006, and released June 30, 2006.

The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document is not subject to the Congressional Review Act. The Commission is, therefore, not required to send a copy of this Report and Order in a report to be sent to Congress and the Government Accountability Office pursuant to the Congressional Review Act, see U.S.C. 801(a)(1)(A), because the petition for reconsideration was denied.

Federal Communications Commission.
John A. Karousos,
Assistant Chief, Audio Division, Media Bureau.

[FR Doc. E6-10934 Filed 7-11-06; 8:45 am]

BILLING CODE 6712-01-P